NATIONAL AERONAUTICS AND SPACE ADMINISTRATION

[Notice (00-096)]

Government-Owned Inventions, Available for Licensing

AGENCY: National Aeronautics and Space Administration.

ACTION: Notice of availability of inventions for licensing.

SUMMARY: The invention listed below is assigned to the National Aeronautics and Space Administration, has been in the United States Patent and Trademark Office, and is available for licensing.

NASA Case Code No. ARC 14366-1: Masked Proportional Routing.

DATES: August 24, 2000.

FOR FURTHER INFORMATION CONTACT: Rob Padilla, Patent Counsel, Ames Research Center, Mail Code 202A-3, Moffett Field, CA 94035; Tel. (650) 604-5104; Fax (650) 604-7486.

Dated: August 16, 2000.
Edward A. Frankle,
General Counsel.

[FR Doc. 00-21580 Filed 8-23-00; 8:45 am]

BILLING CODE 7510-01-P